Title 3—

The President

Proclamation 8259 of May 21, 2008

National Maritime Day, 2008

By the President of the United States of America

A Proclamation

On National Maritime Day, America honors our highly skilled mariners who sail the high seas, support those on the front lines of the war on terror, and promote commerce around the world.

Since 1775, the United States Merchant Marine has served our country, helping America become a great maritime power. During the Second World War, courageous mariners were among those who suffered greatly—hundreds of ships were lost to enemy action, and many mariners made the ultimate sacrifice. We pay tribute to these heroes who answered the call to serve when our Nation needed them most. Today, our merchant mariners continue to protect our homeland, including by supporting our troops in Iraq and Afghanistan.

In times of peace and war, these brave patriots help keep our Nation safe and strengthen our economy. By transporting American goods across the oceans, merchant mariners facilitate commerce and advance trade. These Americans honor the noble traditions of seafarers and enrich our country's maritime heritage.

In recognition of the importance of the U.S. Merchant Marine, the Congress, by joint resolution approved on May 20, 1933, as amended, has designated May 22 of each year as “National Maritime Day,” and has authorized and requested that the President issue an annual proclamation calling for its appropriate observance.

NOW, THEREFORE, I, GEORGE W. BUSH, President of the United States of America, do hereby proclaim May 22, 2008, as National Maritime Day. I call upon the people of the United States to mark this observance by honoring the service of merchant mariners and by displaying the flag of the United States at their homes and in their communities. I also request that all ships sailing under the American flag dress ship on that day.

IN WITNESS WHEREOF, I have hereunto set my hand this twenty-first day of May, in the year of our Lord two thousand eight, and of the Independence of the United States of America the two hundred and thirty-second.

[FR Doc. 08-1302

Filed 5-23-08; 8:45 am]

Billing code 3195-01-P